DEPARTMENT OF THE INTERIOR

National Park Service

[NPS-PWR-PWRO-21619; PX.XPWRATP16.00.1]

Final Environmental Impact Statement for Scorpion Pier Replacement, Channel Islands National Park, Ventura and Santa Barbara Counties, California

AGENCY: National Park Service, Interior.

ACTION: Notice of availability.

SUMMARY: The National Park Service (NPS) announces the availability of the Final Environmental Impact Statement (EIS) for Replacement of the Scorpion Pier on Santa Cruz Island, Channel Islands National Park. The Final EIS identifies and analyzes the potential consequences of three alternatives: The No Action Alternative; Alternative 1, which would replace the existing pier in the current location and make extensive road improvements; and Alternative 2, which would construct a new replacement pier south of the existing location and make minor road improvements. It also proposes mitigation measures to minimize the adverse impacts from construction or operation of the alternatives where such impacts may occur.

DATES: The NPS will execute a Record of Decision no sooner than 30 days after the date of publication of the Notice of Availability published in the Federal Register by the Environmental Protection Agency.

ADDRESSES: The Final EIS is available for public inspection online at http://parkplanning.nps.gov.chis, in local public libraries, and in the office of the Superintendent, Channel Islands National Park, 1901 Spinnaker Dr., Ventura, CA 93001 (805) 658-5702.

FOR FURTHER INFORMATION CONTACT: Mr. Russell Galipeau, Superintendent, Channel Islands National Park, 1901 Spinnaker Dr., Ventura, CA 93001; russell_galipeau@nps.gov; (805) 658-5702.

SUPPLEMENTARY INFORMATION: Santa Cruz Island is one of five remote islands spanning 2,228 square miles of land and sea comprising Channel Islands National Park. Given necessity for boat access to the island, need for the Project is driven by the following factors:

• Scorpion Pier should provide safe access to Santa Cruz Island. The existing pier is deteriorating and does not meet NPS requirements for administrative use or safe visitor access. The access road to the current location also requires frequent rebuilding. The current height of the pier cannot sufficiently accommodate high and low tides; as such, vessel operators have difficulty docking without compromising risk to individuals, vessels, and the pier itself. The embarkation process requires passengers to climb—one person at a time, often while carrying a backpack—a single unsteady ladder that is not compliant with standards for accessible design.

• Scorpion Pier should provide efficient access to Santa Cruz Island that accommodates visitor demand. The existing pier and access road significantly weaken the efficiency of NPS operations. The one-person ladder needed for embarkation, for example, lengthens the entire boarding process and increases visitor exposure to adverse weather conditions. The narrow width of the pier also causes delays because it cannot simultaneously accommodate visitors and large cargo (i.e., maintenance vehicles); as such, passenger embarkation must occur separately from many maintenance activities. Additionally, the lack of adequate armoring in the area increases the need for regular and expensive repairs to the eroding access road. Improvement of the pier and access road is necessary to meet current and future visitor demands.

• Scorpion Pier and the access roadway should be operated in a manner that protects sensitive resources. The access road is extremely susceptible to harsh weather conditions, and is often washed out by Scorpion Creek when it floods. Maintenance of the existing pier access road currently requires repairing and re-grading several times per year due to wave and storm erosion. As a result of these ground-disturbing activities, sensitive archaeological resources may be threatened. Ongoing re-construction can also impact the environment through air emissions, erosion, and possible pollutants to waterways and sensitive habitats.

• Scorpion Pier should provide access to Santa Cruz Island in consideration of predicted sea level rise. The predicted rise in sea level due to global warming must also be considered in the new design for the pier. Current predictions range from 0.33 foot to 1.1 foot by the year 2050, and 0.74 foot to 3.2 feet by 2100. Anticipated sea level rise has implications for the new pier design, as well as for the dynamics of Scorpion Creek during large storm events.

Accordingly, key project objectives include: (1) Improve the visitor experience; (2) Improve the pier while protecting marine and terrestrial environments; (3) Improve access for NPS and concessioner boats; (4) Improve passenger, cargo, and operations circulation; (5) Protect archaeological resources; (6) Preserve the historic landscape qualities and visual character of Scorpion Ranch; and (7) Improve efficiency and sustainability.

The Draft EIS was made available for public review and comment from October 9, 2015, through December 18, 2015. The full text and graphics were also posted on the NPS Planning, Environment and Public Comment Web site (http://parkplanning.nps.gov/chis). During the review period, the NPS received only six separate pieces of correspondence—the majority of comments were in regards to the general planning process and project design, as well as concerns about protecting aquatic biological resources and air quality. There were no objections to the proposed actions. After considering all comments received, the NPS prepared the Final EIS. There are no substantive changes to the range of alternatives considered. Alternative 2 is deemed to be the “environmentally preferred” course of action, and is identified as the agency-preferred alternative.

Authority: 42 U.S.C. 4321 et seq.

Dated: February 27, 2017.
Laura E. Joss
Regional Director, Pacific West.

[FR Doc. 2017-10426 Filed 5-19-17; 8:45 am]

BILLING CODE 4312-52-P